DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, November 19, 2015, 8:00 p.m. to November 20, 2015 5:00 p.m., St. Gregory Hotel, 2033 M Street NW., Washington, DC 20036 which was published in the Federal Register on October 09, 2015, 2015-61217.

The meeting location has changed from the St. Gregory Hotel, Washington DC to the Washington Marriott Wardman Park Hotel, Washington, DC. The meeting date has changed from Nov. 19-20, 2015 to Nov. 19, 2015 only. The meeting is closed to the public.

Dated: November 4, 2015.
Michelle Trout,
Program Analyst, Office of Federal Advisory Committee Policy.

[FR Doc. 2015-28585 Filed 11-9-15; 8:45 am]

BILLING CODE 4140-01-P